FEDERAL COMMUNICATIONS COMMISSION

47 CFR Part 73

[MB Docket No. 14-37; RM-11711; DA 14-1059]

Radio Broadcasting Services; Haynesville, Louisiana

AGENCY: Federal Communications Commission.

ACTION: Final rule.

SUMMARY: The Audio Division, at the request of SSR Communications, Inc., allots Channel 286A at Haynesville, Louisiana, as a “backfill” allotment to prevent the removal of the community's potential first local service that accommodates the “hybrid” application for Station KIMW, Channel 288A from Haynesville, Louisiana, to Heflin, Louisiana. A staff engineering analysis indicates that Channel 286A can be allotted to Haynesville consistent with the minimum distance separation requirements of the Commission's rules with a site restriction 4.6 kilometers (2.9 miles) south of the community. The reference coordinates are 33-00-12 NL and 93-08-19 WL.

DATES: Effective September 8, 2014.

ADDRESSES: Secretary, Federal Communications Commission, 445 Twelfth Street SW., Washington, DC 20554.

FOR FURTHER INFORMATION CONTACT: Rolanda F. Smith, Media Bureau, (202) 418-2700.

SUPPLEMENTARY INFORMATION: This is a synopsis of the Commission's Report and Order, adopted July 24, 2014, and released July 25, 2014. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. The Commission will send a copy of this Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Louisiana, is amended by removing Channel 288A at Haynesville, and by adding Channel 286A at Haynesville.

[FR Doc. 2014-19162 Filed 8-12-14; 8:45 am]

BILLING CODE 6712-01-P